DEPARTMENT OF ENERGY

Federal Energy Regulatory Commission

Privacy Act of 1974; Notice of New, Revised and Discontinued Systems of Records

AGENCY: Federal Energy Regulatory Commission, DOE.

ACTION: Notices of existence and character of new, revised and discontinued systems of records.

SUMMARY: The Federal Energy Regulatory Commission (“the Commission”), under the requirements of the Privacy Act of 1974, 5 U.S.C. 552a, is publishing a list and description of new, revised and discontinued systems of records.

ADDRESSES: Comments should be directed to the following address: Federal Energy Regulatory Commission, Julia A. Lake, Privacy Act Officer, Office of the General Counsel, 888 First Street, NE, Room 9121, Washington, DC 20426.

FOR FURTHER INFORMATION CONTACT: Katherina Quijada-Cusack, Office of the Chief Information Officer, Federal Energy Regulatory Commission, 888 First Street, NE, Room 2A-3, Washington, DC 20426, (202) 208-1748.

SUPPLEMENTARY INFORMATION:

I. Report on New Systems

A. Background

The Privacy Act of 1974, 5 U.S.C. 552a, requires that each agency publish a notice of the existence and character of each new or altered “system of records”. 5 U.S.C. 552a(a)(5). This Notice identifies and describes the Commission's new, revised and discontinued systems of records. A copy of this report has been distributed to the Speaker of the House of Representatives and the President of the Senate as the Act requires.

The Commission has adopted several new systems of records under the Privacy Act of 1974. These systems do not duplicate any existing agency systems. The notice includes for each system of records the name; location; categories of individuals on whom the records are maintained; categories of records in the system; authority for maintenance of the system; each routine use; the policies and practices governing storage, retrievability, access controls, retention and disposal; the title and business address of the agency official responsible for the system of records; procedures for notification, access and contesting the records of each system; and the sources for the records in each system. 5 U.S.C. 552(a)(4).

B. New Systems of Records

These systems are set forth in the following list.

FERC-37 Commission Voluntary Leave Transfer Files

FERC-38 Commission Employee Performance Files

FERC-39 Commission Temporary Work-at-Home Program

FERC-40 Commission Family Medical Leave Act (FMLA) Request Files

FERC-41 Commission Transit Subsidy Program (TSP) Records

FERC-42 Commission Headquarters Security Access and Control Records

FERC-43 Commission Travel Records

FERC-44 Requests for Commission Publications and Information

FERC-45 Commission's Requested Records Tracking System (RRTS)

FERC-46 Commission Freedom of Information Act and Privacy Act Request Files

FERC-47 Commission Office of Finance, Accounting and Operations' Recruitment Records

FERC-48 Department of Energy (DOE) Inspector General Investigative Records Relating to the Federal Energy Regulatory Commission

FERC-49 Commission Telecommunications Records

FERC-50 Commission Accounting System Records

FERC-51 Commission Congressional Correspondence, State Files and Constituent Records

FERC-52 Commission Supervisor-Maintained Personnel Records

FERC-53 Commission Information Technology System Logs

FERC-54 Commission Employee Assistance Program Records

II. Deletion of Systems

The Commission's Freedom of Information Act and Privacy Act Requests Tracking Files (FERC 33) and Freedom of Information Act and Privacy Act Requests Files (FERC 34) are being deleted, however, they have been combined into a new system of records (FERC-46). Congressional Correspondence Files (FERC-7 and FERC-8) have also been consolidated and are identified in FERC-51. The remaining systems of records previously reported are no longer being maintained and are, therefore, being deleted from the Commission system notices.

The deleted systems are the following:

FERC-3 Applications for Interlocking Directorates, Public Files

FERC-7 Congressional Correspondence Files—FERC

FERC-8 Congressional Correspondence Files—Office of the Executive Director

FERC-9 Correspondence File—Office of Pipeline and Producer Regulation, FERC

FERC-10 Employee Conduct Records—FERC

FERC-14 Advanced Sick Leave Requests File

FERC-26 Performance Management Recognition System Reconsideration File

FERC-33 Commission Freedom of Information Act and Privacy Act Requests Tracking Files

FERC-34 Commission Freedom of Information Act and Privacy Act Request Files

III. Revised Systems of Records

The Commission is updating all other existing records to reflect new contact points and update addresses.

IV. Table of Contents of All FERC Systems

FERC-6 Biographical Material on FERC Commissioners and Key Staff Members

FERC-15 Commission Labor and Employee Relations Case Files

FERC-16 Commission Death Cases File

FERC-17 Commission Disability Retirements File

FERC-18 Commission Discontinued Service Retirements File

FERC-19 Commission Equal Employment Opportunity (EEO) Discrimination Complaints File

FERC-20 Commission Employee Suggestions File

FERC-21 Commission Training Records

FERC-22 Commission Indebtedness Cases Files

FERC-23 Commission Leave Without Pay Requests File

FERC-24 Commission Miscellaneous Investigation File

FERC-25 Commission Office of Workers Compensation Program (OWCP) Claims File

FERC-27 Commission Reconsideration of Retirement Refund Decisions File

FERC-28 Commission Restoration of Annual Leave Requests File

FERC-29 Commission Unemployment Compensation File

FERC-30 Commission Within-Grade Increase (WGI) Denials and Reconsideration File

FERC-31 Commission Parking Records

FERC-32 Commission Fitness Center Records

FERC-35 Commission Security Investigations Records

FERC-36 Management, Administrative, and Payroll System (MAPS)

FERC-37 Commission Voluntary Leave Transfer Files

FERC-38 Commission Employee Performance Files

FERC-39 Commission Temporary Work-at-Home Program

FERC-40 Commission Family Medical Leave Act (FMLA) Request Files

FERC-41 Commission Transit Subsidy Program (TSP) Records

FERC-42 Commission Headquarters Security Access and Control Records

FERC-43 Commission Travel Records

FERC-44 Requests for Commission Publications and Information

FERC-45 Commission's Requested Records Tracking System (RRTS)

FERC-46 Commission Freedom of Information Act and Privacy Act Request Files

FERC-47 Commission Office of Finance, Accounting and Operations' Recruitment Records

FERC-48 Department of Energy (DOE) Inspector General Investigative Records Relating to the Federal Energy Regulatory Commission

FERC-49 Commission Telecommunications Records

FERC-50 Commission Accounting System Records

FERC-51 Commission Congressional Correspondence, State Files and Constituent Records

FERC-52 Commission Supervisor-Maintained Personnel Records

FERC-53 Commission Information Technology System Log Records

FERC-54 Commission Employee Assistance Program Records

Fernanda F. Young,
Chief Information Officer.

FERC-6

SYSTEM NAME:

Biographical Material on FERC Commissioners and Key Staff Members.

SECURITY CLASSIFICATION:

Unclassified.

SYSTEM LOCATION:

Federal Energy Regulatory Commission, Office of External Affairs, Division of Congressional, Intergovernmental and Public Affairs, 888 First Street, NE, Room 11H-24, Washington, DC 20426.

CATEGORIES OF INDIVIDUALS COVERED BY THE SYSTEM:

Commissioners and key staff members currently or formerly employed by the Commission.

CATEGORIES OF RECORDS IN THE SYSTEM:

Biographical material on Commissioners and key staff members of the Commission including: Date and place of birth, marital status, number of children, educational background, past work experience, honors or awards, published materials, and military experience and honors.

AUTHORITY FOR MAINTENANCE OF THE SYSTEM:

15 U.S.C. 717o; 16 U.S.C. 825h; 42 U.S.C. 7172(a)(2); 44 U.S.C. section 3101.

PURPOSE(S):

To maintain and provide immediate access to current and historical biographical data for official use.

ROUTINE USES OF RECORDS MAINTAINED IN THE SYSTEM, INCLUDING CATEGORIES OF USERS AND THE PURPOSES OF SUCH USES:

Records are used by authorized Commission personnel whose official duties require access in preparation of introductions for speaking engagements, and news releases to announce appointments of Commissioners and key staff members. Records are also made available to the general public pursuant to the Freedom of Information Act, 5 U.S.C. 552.

Disclosure to consumer reporting agencies:

None.

POLICIES AND PRACTICES FOR STORING, RETRIEVING, ACCESSING, RETAINING, AND DISPOSING OF RECORDS IN THE SYSTEM:

STORAGE:

Paper.

RETRIEVABILITY:

Name.

SAFEGUARDS:

Records are maintained in a lockable file cabinet.

RETENTION AND DISPOSAL:

Records are destroyed when they are superseded or obsolete.

SYSTEM MANAGER(S) AND ADDRESS:

Division of Congressional, Intergovernmental and Public Affairs, Office of External Affairs, Federal Energy Regulatory Commission, 888 First Street, Room 11H-22, Washington, DC 20426.

NOTIFICATION PROCEDURE:

Requests by individuals to determine if a system of records contains information about them should be directed to the System Manager.

RECORD ACCESS PROCEDURES:

Same as notification procedures above.

CONTESTING RECORD PROCEDURES:

Same as notification procedures above.

RECORD SOURCE CATEGORIES:

Individuals on whom the records are maintained.

EXEMPTIONS CLAIMED FOR THE SYSTEM:

None.

FERC-15

SYSTEM NAME:

Commission Labor and Employee Relations Case Files.

SECURITY CLASSIFICATION:

Unclassified.

SYSTEM LOCATION:

Federal Energy Regulatory Commission, Office of Strategy and Organizational Management, Division of Human Resources, Labor and Employee Relations Branch, 888 First Street, NE, Room 4A-05, Washington, DC 20426.

CATEGORIES OF INDIVIDUALS COVERED BY THE SYSTEM:

FERC employees who are the subject of any one of the following actions: Disciplinary/adverse action, performance-based action, and grievance.

CATEGORIES OF RECORDS IN THE SYSTEM:

Various agency forms, decision documents, grievances, denials, appeals, requests for reconsideration, and briefs.

AUTHORITY FOR MAINTENANCE OF THE SYSTEM:

5 CFR parts 430, 432, 752, 771; 5 U.S.C. 7121.

PURPOSE(S):

Maintain data on labor and employee relations cases that may be used to support actions before other government entities such as the Merit System Protection Board (MSPB) and Federal Labor Relations Authority (FLRA), and to support progressive discipline actions.

ROUTINE USES OF RECORDS MAINTAINED IN THE SYSTEM, INCLUDING CATEGORIES OF USERS AND THE PURPOSES OF SUCH USES:

To respond to a member of Congress concerning the status of the particular action or the employee's general employment history; to serve as a data source for the Office of Personnel Management (OPM) or the Government Accounting Office (GAO) during the course of on-site inspections or audits; to serve as a data source to FERC officials in determining the proper current personnel action to take concerning the employee; to adjudicate appeals, complaints, grievances.

DISCLOSURE TO CONSUMER REPORTING AGENCIES: None.

Policies and practices for storing, retrieving, accessing, retaining, and disposing of records in the system:

STORAGE:

Paper.

RETRIEVABILITY:

By name of requester or by type of action.

SAFEGUARDS:

Records are in lockable file cabinets in a lockable room with access limited to those employees whose official duties require access. Access to lockable room is badge-activated.

RETENTION AND DISPOSAL:

Records are maintained pursuant to instructions authorized by the National Archives and Records Administration. File documents are shredded and disposed of in burn bags.

SYSTEM MANAGER(S) AND ADDRESS:

Chief, Labor and Employee Relations Branch, Division of Human Resources, Office of Strategy and Organizational Management, Federal Energy Regulatory Commission, 888 First Street, NE, Room 4A-05, Washington, DC 20426

Notification procedure:

Requests from individuals to determine if a system of records contains information about them should be directed to the System Manager.

Record access procedures:

Same as notification procedures above.

Contesting record procedures:

Same as notification procedures above.

Record source categories:

Subject employee, supervisors, Office Directors, Office of Strategy and Organizational Management director, personnel specialists, Office of the General Counsel staff, and Merit Systems Protection Board.

Exemptions claimed for the system:

None.

FERC-16

System name:

Commission Death Cases File.

Security classification:

Unclassified.

System location:

Federal Energy Regulatory Commission, Office of Strategy and Organizational Management, Division of Human Resources, Labor and Employee Relations Branch, 888 First Street, NE, Room 4A-05, Washington, DC 20426.

Categories of individuals covered by the system:

FERC employees who die while employed and whose survivors file a claim for death benefits.

Categories of records in the system:

Claims forms for various death benefits filed by deceased employees' survivors.

Authority for maintenance of the system:

5 CFR 831.102 and 841.106 and 5 CFR parts 870 and 890.

Purpose(s):

Maintain copies in case of disputes relating to claims for benefits by survivors of deceased employees.

Routine uses of records maintained in the system, including categories of users and the purposes of such uses:

To respond to a member of Congress concerning the status of the particular action or the employee's general employment history; to serve as a data source for OPM or GAO during the course of on-site inspections or audits; to disclose to a federal, state, or local agency for use in a decision by that agency on a claim arising from the employee's death.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Three years. File documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Chief, Labor and Employee Relations Branch and employees' survivors.

Exemptions claimed for the system:

None.

FERC-17

System name:

Commission Disability Retirements File.

Security classification:

Unclassified.

System location:

Federal Energy Regulatory Commission, Office of Strategy and Organizational Management, Division of Human Resources, Labor and Employee Relations Branch, 888 First Street, NE, Room 415, Washington, DC 20426.

Categories of individuals covered by the system:

FERC employees who file claim to retire from Federal service due to medical disability.

Categories of records in the system:

Various retirement claims forms, supporting medical and other documentation, and decision documents on the claim from the Office of Personnel Management.

Authority for maintenance of the system:

5 CFR 831.102 and 841.106.

Purpose(s):

Maintain documentation relating to employee's request and approval/disapproval for disability retirement.

Routine uses of records maintained in the system, including categories of users and the purposes of such uses:

To respond to a member of Congress concerning the status of the particular action or the employee's general employment history; to serve as a data source for OPM or GAO during the course of on-site inspections or audits; to disclose to a federal, state, or local agency for a decision by that agency on a claim by the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are shredded and disposed of in burn bags upon receipt of official OPM acceptance of annual summary.

System manager(s) and address:

Chief, Labor and Employee Relations Branch, Division of Human Resources, Office of Strategy and Organizational Management, Federal Energy Regulatory Commission, 888 First Street, NE, Room 415, Washington, DC 20426.

Notification procedure:

Requests from individuals to determine if a system of records contains information about them should be directed to the System Manager.

Record access procedures:

Same as notification procedures above.

Contesting record procedures:

Same as notification procedures above.

Record source categories:

Office of Personnel Management, retiree, supervisors, doctors, insurance companies, personnel specialists, and the FERC Personnel Director.

Exemptions claimed for the system:

None.

FERC-18

System name:

Commission Discontinued Service Retirements File.

Security classification:

Unclassified.

System location:

Federal Energy Regulatory Commission, Office of Strategy and Organizational Management, Division of Human Resources, Labor and Employee Relations Branch, 888 First Street, NE, Room 415, Washington, DC 20426.

Categories of individuals covered by the system:

FERC employees retiring due to involuntary separation.

Categories of records in the system:

Retirement application documents and supporting documents.

Authority for maintenance of the system:

5 CFR 831.102 and 841.106.

Purpose(s):

To maintain documentation in support of employees' discontinued service retirement.

Routine uses of records maintained in the system, including categories of users and the purposes of such uses:

To respond to a member of Congress concerning the status of the particular action or the employee's general employment history; to serve as a data source for OPM or GAO during the course of on-site inspections or audits; to disclose to a federal, state, or local agency for a decision by that agency on a claim by the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are shredded and disposed of in burn bags upon receipt of official OPM acceptance of annual summary.

System manager(s) and address:

Chief, Labor and Employee Relations Branch, Division of Human Resources, Office of Strategy and Organizational Management, Federal Energy Regulatory Commission, 888 First Street, NE, Room 415, Washington, DC 20426.

Notification procedure:

Requests from individuals to determine if a system of records contains information about them should be directed to the System Manager.

Record access procedures:

Same as notification procedures above.

Contesting record procedures:

Same as notification procedures above.

Record source categories:

FERC Personnel Director, subject employee, personnel specialists.

Exemptions claimed for the system:

None.

FERC-19

System name:

Commission Equal Employment Opportunity (EEO) Discrimination Complaints File.

Security classification:

Unclassified.

System location:

Federal Energy Regulatory Commission, Office of Strategy and Organizational Management, Equal Employment Opportunity Manager, 888 First Street, NE, Room 42-26, Washington, DC 20426.

Categories of individuals covered by the system:

Individuals who file formal EEO Complaints of Discrimination.

Categories of records in the system:

Written complaint, investigative reports and decision documents.

Authority for maintenance of the system:

29 CFR part 1614.

Purpose(s):

To maintain documentation of FERC EEO complaints filed.

Routine uses of records maintained in the system, including categories of users and the purposes of such uses:

To respond to a member of Congress concerning the status of the particular action or the employee's general employment history; to serve as a data source for EEO, OPM or GAO during the course of on-site inspections or audits; to serve as a data source to FERC officials in determining the proper current personnel action to take concerning the employee; to disclose to a federal, state or local agency for a decision by that agency on a claim by the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are maintained in lockable metal file cabinets in a lockable room limited to those whose official duties require access.

Retention and disposal:

Official discrimination complaint case files are destroyed 4 years after resolution of case. Records documenting complaints that do not develop into official discrimination complaint cases are destroyed when 2 years old. Records are shredded and/or disposed of in burn bags.

System manager(s) and address:

Equal Employment Opportunity Manager, Office of Strategy and Organizational Management, Federal Energy Regulatory Commission, 888 First Street, NE, Room 42-26, Washington, DC 20426.

Notification procedure:

Requests from individuals to determine if a system of records contains information about them should be directed to the System Manager.

Record access procedures:

Same as notification procedures above.

Contesting record procedures:

Same as notification procedures above.

Record source categories:

Equal Employment Opportunity Investigator, subject employee, EEO Manager, Office of the General Counsel staff, Equal Employment Opportunity Commission, and courts.

Exemptions claimed for the system:

None.

FERC-20

System name:

Commission Employee Suggestions File.

Security classification:

Unclassified.

System location:

Federal Energy Regulatory Commission, Office of Strategy and Organizational Management, Division of Human Resources, Labor and Employee Relations Branch, 888 First Street, NE, Room 415, Washington, DC 20426.

Categories of individuals covered by the system:

FERC employees submitting suggestions to the FERC suggestion program.

Categories of records in the system:

Written suggestions, evaluation and decision documents relating to the suggestions.

Authority for maintenance of the system:

5 CFR 451.107.

Purpose(s):

To maintain documentation on employee suggestions.

Routine uses of records maintained in the system, including categories of users and the purposes of such uses:

To respond to a member of Congress concerning the status of the particular action or the employee's general employment history; to serve as a data source for OPM or GAO during the course of on-site inspections or audits; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are destroyed 2 years after approval or disapproval. They are shredded and disposed of in burn bags.

System manager(s) and address:

Chief, Labor and Employee Relations Branch, Division of Human Resources, Office of Strategy and Organizational Management, Federal Energy Regulatory Commission, 888 First Street, NE, Room 415, Washington, DC 20426.

Notification procedure:

Requests from individuals to determine if a system of records contains information about them should be directed to the System Manager.

Record access procedures:

Same as notification procedures above.

Contesting record procedures:

Same as notification procedures above.

Record source categories:

The Director of the Program Office to which the suggestion is directed, subject employee, if known, and personnel specialists responsible for follow-up on suggestions.

Exemptions claimed for the system:

None.

FERC-21

System name:

Commission Training Records.

Security classification:

Unclassified.

System location:

Federal Energy Regulatory Commission, Office of Strategy and Organizational Management, Division of Human Resources, Training and Development Branch, 888 First Street, NE, Room 42-19, Washington, DC, 20426.

Categories of individuals covered by the system:

All employees who formally request to attend training at the expense of the Commission.

Categories of records in the system:

Name of employee, Program Office, course name, vendor, cost, type of course, and purpose.

Authority for maintenance of the system:

5 CFR 410.311.

Purpose(s):

To maintain data on the training and development of FERC employees.

Routine uses of records maintained in the system, including categories of users and the purposes of such uses:

To serve as a data source to make reports available to OPM; to generate individual training histories and produce ad-hoc management reports; to track agency office expenditures.

Disclosure to consumer reporting agencies:

None.

Policies and practices for storing, retrieving, accessing, retaining, and disposing of records in the system:

Storage:

Computer and paper.

Retrievability:

By employee name, Program Office, course name, or vendor.

Safeguards:

Paper records are in lockable file cabinets, and/or in a lockable room with access limited to those employees whose official duties require access. Access to lockable room containing official agency training records is badge-activated. Access and system rights to the electronic records are assigned by the system administrator to Training and Development Branch employees requiring access. Training and Development Branch staff access the database through their personal computers. All Branch staff with assigned rights must enter a user identification and a valid password to access their computers and all employees use screen saver passwords.

Retention and disposal:

Official records are destroyed when 5 years old or 5 years after completion of a specific training program. Administrative copies of training requests/authorizations, vouchers and evaluations maintained by Program Office Administrative Officers are destroyed when 2 years old.

System manager(s) and address:

Chief, Training and Development Branch, Division of Human Resources, Office of Strategy and Organizational Management, Federal Energy Regulatory Commission, 888 First Street, NE, Room 42-19, Washington, DC 20426 or the appropriate Administrative Office in which the individual is employed.

Notification procedure:

Requests from individuals to determine if a system of records contains information about them should be directed to the Administrative Office in which the individual is employed, or to the System Manager.

Record access procedures:

Same as notification procedures above.

Contesting record procedures:

Same as notification procedures above.

Record source categories:

Administrative Officer for individual Program Offices, Training and Development Branch staff, Commission employee.

Exemptions claimed for the system:

None.

FERC-22

System name:

Commission Indebtedness Cases Files.

Security classification:

Unclassified.

System location:

Federal Energy Regulatory Commission, Office of Strategy and Organizational Management, Division of Human Resources, Labor and Employee Relations Branch, 888 First Street, NE, Room 415, Washington, DC 20426.

Categories of individuals covered by the system:

FERC employees about whom creditors submit written complaints of indebtedness to FERC.

Categories of records in the system:

Written complaints and agency correspondence.

Authority for maintenance of the system:

5 CFR part 735.

Purpose(s):

To maintain correspondence relating to employee indebtedness.

Routine uses of records maintained in the system, including categories of users and the purposes of such uses:

To respond to a member of Congress concerning the status of the particular action or the employee's general employment history; to serve as a data source for OPM or GAO during the course of on-site inspections or audits; to serve as a data source to FERC officials in determining the proper current personnel action to take concerning the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are destroyed 3 years after garnishment is terminated. Documents are shredded and disposed of in burn bags.

System manager(s) and address:

Chief, Labor and Employee Relations Branch, Division of Human Resources, Office of Strategy and Organizational Management, Federal Energy Regulatory Commission, 888 First Street, NE, Room 415, Washington, DC 20426.

Notification procedure:

Requests from individuals to determine if a system of records contains information about them should be directed to the System Manager.

Record access procedures:

Same as notification procedures above.

Contesting record procedures:

Same as notification procedures above.

Record source categories:

Creditors of employees, personnel specialists, supervisors, and subject employee.

Exemptions claimed for the system:

None.

FERC-23

System name:

Commission Leave Without Pay Requests File.

Security classification:

Unclassified.

System location:

Federal Energy Regulatory Commission, Office of Strategy and Organizational Management, Division of Human Resources, Labor and Employee Relations Branch, 888 First Street, NE, Room 4A-05, Washington, DC 20426.

Categories of individuals covered by the system:

FERC employees requesting leave without pay in excess of 52 weeks.

Categories of records in the system:

Written request and decision document from the Director, Office of Strategy and Organizational Management.

Authority for maintenance of the system:

5 CFR 630.101.

Purpose(s):

To maintain documentation supporting requests and approvals for LWOP in excess of 52 weeks.

Routine uses of records maintained in the system, including categories of users and the purposes of such uses:

To respond to a member of Congress concerning the status of the particular action or the employee's general employment history; to serve as a data source for OPM or GAO during the course of on-site inspections or audits; to serve as a data source to FERC officials in determining the proper current personnel action to take concerning the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are destroyed after GAO audit or when 3 years old, whichever is sooner. Documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Director, Office of Strategy and Organizational Management, subject employee and employee's supervisor.

Exemptions claimed for the system:

None.

FERC-24

System name:

Commission Miscellaneous Investigation File.

Security classification:

Unclassified.

System location:

Federal Energy Regulatory Commission, Office of Strategy and Organizational Management, Division of Human Resources, Labor and Employee Relations Branch, 888 First Street, NE, Room 4A-05, Washington, DC 20426.

Categories of individuals covered by the system:

Employees involved in issues that FERC management deems appropriate for informal inquiry and that do not involve a finalized grievance, appeal process, or formal Department of Energy Inspector General inquiry.

Categories of records in the system:

Formal reports of inquiry and supporting documentation, records of actions taken resulting from the inquiry, and decision documents.

Authority for maintenance of the system:

5 CFR part 735.

Purpose(s):

To maintain documentation on employee issues that do not go through the formal grievance process.

Routine uses of records maintained in the system, including categories of users and the purposes of such uses:

To respond to a member of Congress concerning the status of the particular action or the employee's general employment history; to serve as a data source for OPM or GAO during the course of on-site inspections or audits; to serve as a data source to FERC officials in determining the proper current personnel action to take concerning the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are maintained pursuant to instructions authorized by the National Archives and Records Administration. File documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure

Requests from individuals to determine if a system of records contains information about them should be directed to the System Manager.

Record access procedures: Same as notification procedures above.

Contesting record procedures: Same as notification procedures above.

Record source categories:Various FERC officials, complainants, and investigators.

Exemptions claimed for the system: None.

FERC-25

System name:

Commission Office of Workers Compensation Program (OWCP) Claims File.

Security classification:

Unclassified.

System location:

Federal Energy Regulatory Commission, Office of Strategy and Organizational Management, Division of Human Resources, Labor and Employee Relations Branch, 888 First Street, NE, Room 4A-05, Washington, DC 20426.

Categories of individuals covered by the system:

FERC employees who file compensation claims for expenses or “lost time” salary reimbursement due to work-related injury or illness.

Categories of records in the system:

Employee claims and supporting documents, supporting data from FERC officials, and Department of Labor decision documents.

Authority for maintenance of the system:

20 CFR part 10.

Purpose(s):

To maintain documentation on employees who file OWCP claims.

Routine uses of records maintained in the system, including categories of users and the purposes of such uses:

To respond to a member of Congress concerning the status of the particular action or the employee's general employment history; to serve as a data source for OPM or GAO during the course of on-site inspections or audits; to disclose to a federal, state, or local agency for a decision by that agency on a claim by the employee; to serve as a data source to FERC officials in determining the proper current personnel action to take concerning the employee; to adjudicate appeals, complaints, or grievances.

Disclosure to consumer reporting agencies:

None. Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are cut off on termination of compensation or when deadline for filing a claim has passed, and destroyed 3 years after cutoff. Documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Department of Labor, subject employee, and various FERC officials.

Exemptions claimed for the system:

None.

FERC-27

System name:

Commission Reconsideration of Retirement Refund Decisions File.

Security classification:

Unclassified.

System location:

Federal Energy Regulatory Commission, Office of Strategy and Organizational Management, Division of Human Resources, Labor and Employee Relations Branch, 888 First Street, NE, Room 4A-05, Washington, DC 20426.

Categories of individuals covered by the system:

FERC employees appealing a determination of ineligibility for refund of Civil Service Retirement/Federal Employees Retirement System deductions.

Categories of records in the system:

Written reconsideration request, agency preliminary decision, and final OPM decision document.

Authority for maintenance of the system:

5 CFR 831.2002 and 842.308.

Purpose(s):

To maintain documentation concerning requests and appeals for refund of retirement deductions.

Routine uses of records maintained in the system, including categories of users and the purposes of such uses:

To respond to a member of Congress concerning the status of the particular action or the employee's general employment history; to serve as a data source for OPM or GAO during the course of on-site inspections or audits; to disclose to a federal, state, or local agency for a decision by that agency on a claim by the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are shredded and disposed of in burn bags upon receipt of official OPM acceptance of annual summary.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Office of Personnel Management, subject employee, and personnel specialists.

Exemptions claimed for the system:

None.

FERC-28

System name:

Commission Restoration of Annual Leave Requests File.

Security classification:

Unclassified.

System location:

Federal Energy Regulatory Commission, Office of Strategy and Organizational Management, Division of Human Resources, Labor and Employee Relations Branch, 888 First Street, NE, Room 4A-05, Washington, DC 20426.

Categories of individuals covered by the system:

FERC employees requesting restoration of excess annual leave lost due to illness or exigencies of public business.

Categories of records in the system:

Request for restoration and supporting documents and the decision document.

Authority for maintenance of the system:

5 CFR 630.101.

Purpose(s):

To maintain documentation of those employees requesting restoration of excess annual leave.

Routine uses of records maintained in the system, including categories of users and the purposes of such uses:

To respond to a member of Congress concerning the status of the particular action or the employee's general employment history; to serve as a data source for OPM or GAO during the course of on-site inspections or audits; to serve as a data source for FERC officials in determining the proper current personnel action to take concerning the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Records are destroyed 3 years after GAO audit or when 3 years old, whichever is sooner. Documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Chief, Labor and Employee Relations Branch, Director, Office of Strategy and Organizational Management, subject employee, personnel specialists.

Exemptions claimed for the system:

None.

FERC-29

System name:

Commission Unemployment Compensation File.

Security classification:

Unclassified.

System location:

Federal Energy Regulatory Commission, Office of Strategy and Organizational Management, Division of Human Resources, Labor and Employee Relations Branch, 888 First Street, NE, Room 4A-05, Washington, DC 20426.

Categories of individuals covered by the system:

Former FERC employees who have filed for unemployment compensation.

Categories of records in the system:

Notification of filing from state unemployment compensation office, former employee's claim, and decision document.

Authority for maintenance of the system:

20 CFR part 609.

Purpose(s):

To maintain documentation of requests for unemployment compensation and decision documents.

Routine uses of records maintained in the system, including categories of users and the purposes of such uses:

To respond to a member of Congress concerning the status of the particular action or the employee's general employment history; to serve as a data source for OPM or GAO during the course of on-site inspections or audits; to adjudicate appeals.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge- activated.

Retention and disposal:

Records are destroyed when they are 6 months old. Documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

State Unemployment Compensation Office, Chief, Labor and Employee Relations Branch, former employees, and supervisors.

Exemptions claimed for the system:

None.

FERC-30

System name:

Commission Within-Grade Increase (WGI) Denials and Reconsideration File.

Security classification:

Unclassified.

System location:

Federal Energy Regulatory Commission, Office of Strategy and Organizational Management, Division of Human Resources, Labor and Employee Relations Branch, 888 First Street, NE, Room 4A-05, Washington, DC 20426.

Categories of individuals covered by the system:

FERC employees who have had their Within-Grade Increases withheld and/or who have filed requests to have the withholding decision reconsidered.

Categories of records in the system:

Withholding letter and supporting documents, written reconsideration request, review documents, and decision document.

Authority for maintenance of the system:

5 CFR 531.410.

Purpose(s):

To maintain documentation on WGI denials and actions taken after denials.

Routine uses of records maintained in the system, including categories of users and the purposes of such uses:

To respond to a member of Congress concerning the status of the particular action or the employee's general employment history; to serve as a data source for OPM or GAO during the course of on-site inspections or audits; to serve as a data source to FERC officials in determining the proper current personnel action to take concerning the employee; to adjudicate appeals, complaints, or grievances.

Disclosure to consumer reporting agencies:

None.

Policies and practices for storing, retrieving, accessing, retaining, and disposing of records in the system:

Storage:

Paper (assorted documents, e.g. letters, forms, etc.).

Retrievability:

By employee name.

Safeguards:

Records are in lockable file cabinets in a lockable room with access limited to those employees whose official duties require access. Access to lockable room is badge-activated.

Retention and disposal:

Three years. File documents are shredded and disposed of in burn bags.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Subject employee, supervisors and management officials.

Exemptions claimed for the system:

None.

FERC-31

System name:

Commission Parking Records.

Security classification:

Unclassified.

System location:

Federal Energy Regulatory Commission, Division of Logistics Management, Management Services Branch, 888 North Capitol Street, NE, Room 4V-13, Washington, DC 20426.

Categories of individuals covered by the system:

Employees and members of the public who park in the FERC Headquarters garage.

Categories of records in the system:

Name, office and home address, office and home phone number, vehicle description and license tag number.

Authority for maintenance of the system:

41 CFR 101-20.104.

Purpose(s):

To oversee parking in the Federal Energy Regulatory Commission Headquarters garage as managed and controlled by the Commission.

Routine uses of records maintained in the system, including categories of users and the purposes of such uses:

To rank and assign applications for FERC parking spaces; to notify drivers of emergencies or parking violations; to match employees in the same zip code area to existing or potential carpools.

Disclosure to consumer reporting agencies:

None.

Policies and practices for storing, retrieving, accessing, retaining, and disposing of records in the system:

Storage:

Paper and computer.

Retrievability:

By employee's or member of the public's name, by city, zip code or vehicle license plate number.

Safeguards:

Paper records are maintained in lockable file cabinets in a lockable room with access limited to those employees whose official duties require access; Computer data is secured by password.

Retention and disposal:

Paper records are shredded and destroyed and computer data is deleted after subsequent open parking season.

System manager(s) and address:

Management Services Branch, Division of Logistics Management, Office of Finance, Accounting and Operations, Federal Energy Regulatory Commission, 888 First Street, NE, Room 4V-13, Washington, DC 20426.

Notification procedure:

Requests from individuals to determine if a system of records contains information about them should be directed to the System Manager.

Record access procedures:

Same as notification procedure above.

Contesting record procedures:

Same as notification procedure above.

Record source categories:

Employee or member of the public.

Exemptions claimed for the system:

None.

FERC-32

System name:

Commission Fitness Center Records.

Security classification:

Unclassified.

System location:

Federal Energy Regulatory Commission, Fitness Center Office, 888 First Street, NE, Room E-1, Washington, DC 20426.

categories of individuals covered by the system:

Employees and FERC contractors who are members of the Commission Fitness Center.

Categories of records in the system:

Sign-in sheets; individual's name, gender, age, history of certain medical conditions, name of individual's personal physician and of any prescription or over-the-counter drugs taken on a regular basis; name, telephone number and address of a person to be notified in case of emergency; individual's degree of physical fitness and his/her fitness activities and goals. Contains forms, memoranda, or correspondence as appropriate, related to the employee's membership in the Commission Fitness Center.

Authority for maintenance of the system:

5 U.S.C. 301.

Purpose(s):

To maintain health profiles of members of the Fitness Center.

Routine uses of records maintained in the system, including categories of users and the purposes of such uses:

To provide a point of contact in case of an emergency; to monitor member's degree of physical fitness.

Disclosure to consumer reporting agencies:

None.

Policies and practices for storing, retrieving, accessing, retaining, and disposing of records in the system:

Storage:

Paper.

Retrievability:

Member's name.

Safeguards:

Records are in lockable file cabinets in a lockable room with access limited to those employees whose official duties require access.

Retention and disposal:

Records are updated when necessary to reflect changes and maintained pursuant to instructions authorized by the National Archives and Records Administration.

System manager(s) and address:

Chairman, Board of Directors, Commission Fitness Center Organization, Federal Energy Regulatory Commission, 888 First Street, NE, Room E-1, Washington, DC 20426.

Notification procedure:

Requests from individuals to determine if a system of records contains information about them should be directed to the System Manager of the system.

Record access procedures:

Same as notification procedure above.

Contesting record procedures:

Same as notification procedure above.

Record source categories:

Fitness Center members.

Exemptions claimed for the system:

None.

FERC-35

System name:

Commission Security Investigations Records.

Security classification:

Unclassified.

System location:

Federal Energy Regulatory Commission, Office of Finance, Accounting and Operations, Division of Logistics Management, Facilities and Security Branch, 888 First Street, NE, Room 41-74, Washington, DC 20426.

Categories of individuals covered by the system:

Current and former employees of the Commission, current and former contractors of the Commission, and current and former day care provider employees.

Categories of records in the system:

Name, social security number, home and work address and phone number, reference's home and work address and phone number.

Authority for maintenance of the system:

5 U.S.C. 301, 2302(b)(2)(B), 2302(b)(10), 7311, 7313; Executive Order 10450; 5 CFR 731.103.

Purpose(s):

To conduct security investigations on FERC employees, applicants for FERC employment, and individuals performing work for the Commission under contract.

Routine uses of records maintained in the system, including categories of users and the purposes of such uses:

To an agency, office, or other establishment in the executive, legislative, or judicial branches of the Federal Government, or the District of Columbia Government, in response to its request, in connection with the hiring or retention of an employee, the issuance of a security clearance, the conducting of a security or suitability investigation of an individual, the classifying of jobs, the letting of a contract, or the issuance of a license, grant, or other benefit by the requesting agency; to intelligence agencies for use in intelligence activities; to any source from which information is requested in the course of an investigation, to the extent necessary to identify the individual, inform the source of the nature and purpose of the investigation, and to identify the type of information requested; to Federal agencies as a data source for management information through the production of summary descriptive statistics and analytical studies in support of the functions for which the records are maintained or for related studies; to a congressional office in response to an inquiry made at the request of that individual; in litigation before a court or in an administrative proceeding being conducted by a Federal agency; to a Federal, State, or local agency responsible for investigating, prosecuting, enforcing, or implementing a statute, rule, regulation, or order in connection with functions vested in those agencies.

Disclosure to consumer reporting agencies:

None.

Policies and practices for storing, retrieving, accessing, retaining, and disposing of records in the system:

Storage:

Paper.

Retrievability:

Employee or other individual name.

Safeguards:

Records are maintained in combination safes in locked rooms pursuant to Office of Personnel Management regulations.

Retention and disposal:

Records are destroyed upon notification of death or not later than 5 years after separation or transfer of employee or no later than 5 years after contract relationship expires, whichever is applicable. Records are shredded and disposed of in burn bags.

System manager(s) and address:

Security, Safety and Occupational Health Officer, Facilities and Security Branch, Division of Logistics Management, Office of Finance, Accounting and Operations, Federal Energy Regulatory Commission, 888 First Street, NE, Room 41-74, Washington, DC 20426.

Notification procedure:

Requests from individuals to determine if a system of records contains information about them should be directed to the System Manager.

Record access procedures:

Same as notification procedure above.

Contesting record procedures:

Same as notification procedure above.

Record source categories:

Employees, contractors, applicants, questionnaires, other forms completed in the course of an investigation for employment at another federal government agency, SF-171 or resume, transmittal correspondence.

Exemptions claimed for the system:

None.

FERC-36

System name:

Management, Administrative, and Payroll System (MAPS).

Security classification:

Unclassified.

System location:

Hard copy of personnel and timekeeping data is located at the Federal Energy Regulatory Commission, 888 First Street, NE, Washington, DC 20426. Hard copy of payroll transactions and reports are located at the Department of Veterans Affairs, Financial Services Center (FSC), Austin, Texas 78772. Computerized data is located at the Department of Veterans Affairs, Austin Automation Center (AAC), Austin, Texas 78772.

Categories of individuals covered by the system:

All employees (Senior Executive Service and non-Senior Executive Service, bargaining unit and non-bargaining unit) employed by the Federal Energy Regulatory Commission.

Categories of records in the system:

All official personnel actions and/or payroll transaction information on Commission employees.

Authority for maintenance of the system:

5 U.S.C. 301, 2302(b)(20)(B), 2302(b)(10), 7311, 7313; Executive Order 10450; 5 CFR 731.103.

Purpose(s):

To manage the Commission's management, administrative, and payroll systems.

Routine uses of records maintained in the system, including categories of users and the purposes of such uses:

To the Merit Systems Protection Board, the Office of Special Counsel, the Equal Employment Opportunity Commission, or the Federal Labor Relations Authority, in connection with functions vested in those agencies. To a Congressional office in response to an inquiry made at the request of that individual. To the Office of Management and Budget in connection with private relief legislation. In litigation before a court or in an administrative proceeding being conducted by a Federal agency. To the National Archives and Records Administration for records management inspections. To Federal agencies as a data source for management information through the production of summary descriptive statistics and analytical studies in support of the functions for which the records are maintained for related studies.

Disclosure to consumer reporting agencies:

Not applicable.

Policies and practices for storing, retrieving, accessing, retaining, and disposing of records in the system:

Storage:

On paper in Official Folders located at the FERC and FSC. Computerized on a DEC Alpha Server which resides at the AAC.

Retrievability:

Data can be retrieved by employee's name, employee identification number, or social security number.

Safeguards:

The Austin Automation Center is located in a secured Federal complex. Within this secured building, the Computer Operations Center is located in a controlled access room. Specific employees have been identified as system and database administrators having specific responsibilities allowing access to FERC personnel and payroll data. Security is embedded within the software, in both the operating system and at the application level. Individuals not granted access rights cannot view or change data. The database is monitored by software applications that provide audits of log-ins, both successful and failed. Output documents from the system are maintained as hard copy documents by FERC's Human Resources Division and the VA's Payroll Operations and Finance Offices and are safeguarded in secured cabinets located within secured rooms.

Retention and disposal:

Records are maintained pursuant to instructions authorized by the National Archives and Records Administration and the Office of Personnel Management.

System manager(s) and address:

The Federal Energy Regulatory Commission and the Department of Veterans Affairs share responsibility for system management. The first point of contact is the Director, Division of Management, Administrative and Payroll Support, Office of Finance, Accounting and Operations, Federal Energy Regulatory Commission, 888 First Street, NE, Room 42-59, Washington, DC 20426.

Notification procedure:

Requests from individuals to determine if a system of records contains information about them should be directed to the System Manager.

Record access procedures:

Same as notification procedures above.

Contesting record procedures:

Same as notification procedures above. Involvement by the Office of Personnel Management may be necessary, as provided in the Federal Personnel Manual, Chapter 731.

Record source categories:

Department of Energy's Corporate Human Resource Information System (CHRIS); FERC's Payroll Utilization Reporting System (PURS); the employee's supervisors; and the employee.

Exemptions claimed for the system:

None.

FERC-37

System name:

Commission Voluntary Leave Transfer Files.

Security classification:

Unclassified.

System location:

Federal Energy Regulatory Commission, Office of Strategy and Organizational Management, Division of Human Resources, Labor and Employee Relations Branch, 888 First Street, NE, Room 4A-05, Washington, DC 20426.

Categories of individuals covered by the system:

All employees who request participation in the Voluntary Leave Transfer Program (VLTP).

Categories of records in the system:

Written requests to participate in the VLTP and supporting medical documentation.

Authority for maintenance of the system:

5 CFR 630.913.

Purpose(s):

To maintain information concerning VLTP applicants and the number of applications approved.

Routine uses of records maintained in the system, including categories of users and the purposes of such uses:

To respond to a member of Congress concerning the status of a particular action or the employee's general employment history; to serve as a data source for OPM and GAO during the course of onsite inspections or audits; to serve as a data source for FERC officials in determining the proper current personnel action to take concerning the employee; to adjudicate appeals, complaints or grievances.

Disclosure to consumer reporting agencies:

None.

Policies and practices for storing, retrieving, accessing, retaining, and disposing of records in the system:

Storage:

Paper (assorted documents, e.g., letters, memos, forms, support medical documentation).

Retrievability:

By employee name.

Safeguards:

Records are in lockable file cabinets in a lockable room with access limited to those employees whose official duties require access. Access to lockable room is badge-activated.

Retention and disposal:

Records are shredded and disposed of in burn bags 1 year after the end of the year in which the file is closed.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Employee, personnelist and supervisor.

Exemptions claimed for the system:

None.

FERC-38

System name:

Commission Employee Performance Files.

Security classification:

Unclassified.

System location:

Federal Energy Regulatory Commission, Office of Strategy and Organizational Management, Division of Human Resources, Labor and Employee Relations Branch, 888 First Street, NE, Room 4A-05, Washington, DC 20426.

Categories of individuals covered by the system:

Supervisory and nonsupervisory employees.

Categories of records in the system:

Employee performance appraisals, awards documentation.

Authority for maintenance of the system:

5 CFR parts 430 and 451.

Purpose(s):

To maintain information on employee performance appraisals and awards.

Routine uses of records maintained in the system, including categories of users and the purposes of such uses:

To respond to a member of Congress concerning the status of a particular action or the employee's general employment history; to serve as a data source for OPM and GAO during the course of onsite inspections or audits; to serve as a data source for FERC officials to adjudicate appeals, complaints and grievances; to adjudicate appeals, complaints or grievances.

Disclosure to consumer reporting agencies:

None.

Policies and practices for storing, retrieving, accessing, retaining, and disposing of records in the system:

Storage:

Paper (assorted documents) and computer.

Retrievability:

By employee name.

Safeguards:

Records are in lockable file cabinets in a lockable room with access limited to those employees whose official duties require access. Access to lockable room is badge-activated. Computer records are password protected.

Retention and disposal:

Paper records and computer performance-related records pertaining to former employees are destroyed and deleted when four years old. Other paper and computer summary performance appraisal records are destroyed and deleted four years after the date of the appraisal. Paper and computer employee awards records are destroyed and deleted 2 years after approval or disapproval.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Subject employees, supervisors and personnelists.

Exemptions claimed for the system:

None.

FERC-39

System name:

Commission Temporary Work-at-Home Program.

Security classification:

Unclassified.

System location:

Federal Energy Regulatory Commission, Office of Strategy and Organizational Management, Division of Human Resources, Labor and Employee Relations Branch, 888 First Street, NE, Room 4A-05, Washington, DC 20426.

Categories of individuals covered by the system:

Employees with medical problems who apply for program.

Categories of records in the system:

Written employee requests and supporting medical documentation. Letters of approval/disapproval.

Authority for maintenance of the system:

29 CFR 1613.704.

Purpose(s):

To maintain documentation concerning employee requests to participate in an alternate worksite program.

Routine uses of records maintained in the system, including categories of users and the purposes of such uses:

To respond to a member of Congress the status of a particular action or the employee's general employment history; to serve as a data source for OPM & GAO during the course of onsite inspections or audits; to serve as a data source for FERC officials in determining proper current personnel action to take concerning the employee; to adjudicate appeals, complaints or grievances.

Disclosure to consumer reporting agencies:

None.

Policies and practices for storing, retrieving, accessing, retaining, and disposing of records in the system:

Storage:

Paper (assorted documents, e.g., written request, medical documentation, memos, letters, etc.).

Retrievability:

By employee name.

Safeguards:

Records are in lockable file cabinets in a lockable room with access limited to those employees whose official duties require access. Access to lockable room is badge-activated.

Retention and disposal:

Records are shredded and destroyed in burn bags 1 year after the end of the employee's participation in the program, or 1 year after the request is rejected if disapproved.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedures above.

Contesting record procedures:

Same as notification procedures above.

Record source categories:

Subject employee, personnelists, and supervisor.

Exemptions claimed for the system:

None.

FERC-40

System name:

Commission Family Medical Leave Act (FMLA) Request Files.

Security classification:

Unclassified.

System location:

Federal Energy Regulatory Commission, Office of Strategy and Organizational Management, Division of Human Resources, Labor and Employee Relations Branch, 888 First Street, NE, Room 4A-05, Washington, DC 20426.

Categories of individuals covered by the system:

Employees who apply for leave under FMLA.

Categories of records in the system:

Written requests for FMLA coverage and supporting medical documentation.

Authority for maintenance of the system:

5 CFR 630.1211.

Purpose(s):

To maintain documentation on FMLA requests.

Routine uses of records maintained in the system, including categories of users and the purposes of such uses:

To respond to a member of Congress concerning the status of a particular action or the employee's general employment history; to serve as a data source for OPM or GAO during the course of an onsite investigation or audits; to serve as a data source for FERC officials in determining the proper, current personnel action to take concerning the employee; to adjudicate appeals, complaints or grievances.

Disclosure to consumer reporting agencies:

None.

Policies and practices for storing, retrieving, accessing, retaining, and disposing of records in the system:

Storage:

Paper (assorted documents, e.g., letters, memos, forms, medical documentation).

Retrievability:

By employee name.

Safeguards:

Records are in lockable file cabinets in a lockable room with access limited to those employees whose official duties require access. Access to lockable room is badge-activated.

Retention and disposal:

Records are shredded and destroyed in burn bags after GAO audit or when 3 years old, whichever is sooner.

System manager(s) and address:

Chief, Labor and Employee Relations Branch, Division of Human Resources, Office of Strategy and Organizational Management, Federal Energy Regulatory Commission, 888 First Street, NE, Room 4A-05, Washington, DC 20426.

Notification procedure:

Requests from individuals to determine if a system of records contains information about them should be directed to the System Manager.

Record access procedures:

Same as notification procedure above.

Contesting record procedures:

Same as notification procedure above.

Record source categories:

Subject employee, personnelists, and supervisor.

Exemptions claimed for the system:

None.

FERC-41

System name:

Commission Transit Subsidy Program (TSP) Records.

Security classification:

Unclassified.

System location:

Federal Energy Regulatory Commission, Office of Finance, Accounting and Operations, Division of Logistics Management, Management Services Branch, 888 First Street, NE, Room 3L-06, Washington, DC 20426.

Categories of individuals covered by the system:

Employees using public transportation who receive commuting cost reimbursement.

Categories of records in the system:

Employee name, office and home address, office phone number, grade, monthly commuting cost, and mode of public transportation.

Authority for maintenance of the system:

41 CFR 101-6.300.

Purpose(s):

To account for disbursement of Federal government transportation subsidies to employees.

Routine uses of records maintained in the system, including categories of users and the purposes of such uses:

To track employees' commuting expenses; to monitor the TSP budget.

Disclosure to consumer reporting agencies:

None.

Policies and practices for storing, retrieving, accessing, retaining, and disposing of records in the system:

Storage:

Paper and computer.

Retrievability:

Employee name.

Safeguards:

Hard copy records are in lockable file cabinets in a lockable room with access limited to those employees whose official duties require access; computer data secured by password.

Retention and disposal:

Hard copy records are shredded and destroyed in burn bags when three years old. Computer data is deleted when three years old.

System manager(s) and address:

Chief, Management Services Branch, Division of Logistics Management, Office of Finance, Accounting and Operations, Federal Energy Regulatory Commission, 888 First Street, NE, Room 3L-06, Washington, DC 20426.

Notification procedure:

Requests from individuals to determine if a system of records contains information about them should be directed to the System Manager.

Record access procedures:

Same as notification procedure above.

Contesting record procedures:

Same as notification procedure above.

Record source categories:

Employee.

Exemptions claimed for the system:

None.

FERC-42

System name:

Commission Headquarters Security Access and Control Records.

Security classification:

Unclassified.

System location:

Federal Energy Regulatory Commission, Office of Finance, Accounting and Operations, Division of Logistics Management, Facilities and Security Branch, 888 First Street, NE, Room 101-20, Washington, DC 20426.

Categories of individuals covered by the system:

Current and former employees, consultants, contractors, other Government agency personnel, and approved members of the public.

Categories of records in the system:

Individual name, employee badge number, date, time and entry point of building access.

Authority for maintenance of the system:

41 CFR 101-20.103.

Purpose(s):

For Federal government building security, access control and monitoring.

Routine uses of records maintained in the system, including categories of users and the purposes of such uses:

To monitor access of employees and members of the public to a Federal government building.

Disclosure to consumer reporting agencies:

None.

Policies and practices for storing, retrieving, accessing, retaining, and disposing of records in the system:

Storage:

Paper and computer.

Retrievability:

By individual name, date, employee badge number, or entry point.

Safeguards:

Paper records are in lockable file cabinets in a lockable room with access limited to those employees whose official duties require access; computer data is password protected.

Retention and disposal:

Records are maintained for 2 years after final entry or 2 years after date of document. Identification credentials are destroyed 3 months after return to security officer.

System manager(s) and address:

Security, Safety and Occupational Health Officer, Facilities and Security Branch, Division of Logistics Management, Office of Finance, Accounting and Operations, Federal Energy Regulatory Commission, 888 First Street, NE, Room 41-74, Washington, DC 20426.

Notification procedure:

Requests from individuals to determine if a system of records contains information about them should be directed to the System Manager.

Record access procedures:

Same as notification procedure above.

Contesting record procedures:

Same as notification procedure above.

Record source categories:

Employee or member of the public.

Exemptions claimed for the system:

None.

FERC-43

System name:

Commission Travel Records.

Security classification:

Unclassified.

System location:

Federal Energy Regulatory Commission, Office of Finance, Accounting and Operations, Division of Financial Services, 888 First Street, NE, Room 42-71, Washington, DC 20426.

Categories of individuals covered by the system:

FERC employees.

Categories of records in the system:

Employee name, home and office address, home and office phone numbers, social security number, destination, itinerary, mode and purpose of travel, date of travel, government credit card numbers, expenses, amounts claimed, amounts reimbursed, travel orders, travel vouchers and receipts.

Authority for maintenance of the system:

5 U.S.C. 302.

Purpose(s):

To administer the travel requirements of the Commission.

Routine uses of records maintained in the system, including categories of users and the purposes of such uses:

To process travel authorizations and travel vouchers, including government credit card usage, for employees on official travel; to maintain a tracking system for travel authorizations and vouchers for employees on official travel; to General Accounting Office for audit and verification purposes.

Disclosure to consumer reporting agencies:

Cardholder information is reported to consumer credit reporting agencies only if the account is closed, or for non-payment purposes in excess of $100.

Policies and practices for storing, retrieving, accessing, retaining, and disposing of records in the system:

Storage:

Paper and computer.

Retrievability:

Employee name, employee social security number, employee address, government credit card account number.

Safeguards:

Paper records are maintained in lockable file cabinets; computer data is password protected and appropriate user identifications must be established.

Retention and disposal:

Records are maintained pursuant to instructions authorized by the National Archives and Records Administration.

System manager(s) and address:

Director, Division of Financial Services, Office of Finance, Accounting and Operation, Federal Energy Regulatory Commission, 888 First Street, NE, Room 42-71, Washington, DC 20426 and Administrative Offices in which individuals are employed.

Notification procedure:

Requests from individuals to determine if a system of records contains information about them should be directed to the System Manager or to the Administrative Office in which the individual is employed.

Record access procedures:

See notification procedure above.

Contesting record procedures:

See notification procedure above.

Record source categories:

Employees, supervisors, the Electronic Account Government Ledger System (EGALS), and the Commission's Management, Administrative, and Payroll System (MAPS).

Exemptions claimed for the system:

None.

FERC-44

System name:

Requests for Commission Publications and Information.

Security classification:

Unclassified.

System location:

Office of the Chief Information Officer, Information Services Group, Information Services Team, Federal Energy Regulatory Commission, 888 First Street, NE, Room 2-A, Washington, DC 20426.

Categories of individuals covered by the system:

Members of the general public, federal, state and local governments, regulated entities, and public and private interest groups.

Categories of records in the system:

Name, address, phone number and/or e-mail address of requester, description of information being requested, receipt of request and completion dates, and method of payment for documents and publications when costs are incurred.

Authority for maintenance of the system:

18 CFR 388.106.

Purpose(s):

To allow Technical Information Specialists within the Public Reference Room a single point of reference for tracking information requests; to provide statistics to management on services provided to the public; to monitor average turn-around times for requests; and to identify trends information requests for customer service profiles.

Routine uses of records maintained in the system, including categories of users and the purposes of such uses:

Used to monitor status of requests, identify technical assistance provided, develop request statistics, and identify trends in types of information being requested by members of the public.

Disclosure to consumer reporting agencies:

None.

Policies and practices for storing, retrieving, accessing, retaining, and disposing of records in the system:

Storage:

Paper and computer.

Retrievability:

By date, name of requester or company represented.

Safeguards:

Hard copies are maintained in a centralized area to which the general public is not authorized access. The public's access to the records are monitored by Technical Information Specialists at a front desk and a security guard. Access and system rights to the computer are assigned by the system administrator to Technical Information Specialists requiring access. Technical Information Specialists access the system through their personal computers. All Technical Information Specialists with assigned rights to access the system must enter a user identification and a valid password to access their computers and all employees use screen saver passwords. In addition, the computers are situated in an area to which the general public is not allowed access.

Retention and disposal:

Paper records are maintained for three months then disposed of in burn bags. Computer data is purged annually.

System manager(s) and address:

Leader, Information Services Team, Information Services Group, Office of the Chief Information Officer, Federal Energy Regulatory Commission, 888 First Street, Room 2-A, Washington, DC 20426.

Notification procedure:

All inquiries and requests relating to this system of records should be addressed to the system manager of the system.

Record access procedures:

Same as notification procedures above.

Contesting record procedures:

Same as notification procedures above.

Record source categories:

Members of the general public.

Exemptions claimed for the system:

None.

FERC-45

System name:

Commission's Requested Records Tracking System (RRTS).

Security classification:

Unclassified.

System location:

Office of the Chief Information Officer, Information Services Group, Records Maintenance Team, Federal Energy Regulatory Commission, 888 First Street, NE, Room 1-B5, Washington, DC 20426.

Categories of individuals covered by the system:

FERC staff, members of the general public, federal, state and local governments, regulated entities, and public and private interest groups.

Categories of records in the system:

Name, company represented (if applicable), address, phone number of requester, self-assigned user identification, records requested, dates and times of records requests, descriptions, docket numbers, assignee, locations of records, dates of requester notification, receipt and return, and other general comments.

Authority for maintenance of the system:

18 CFR 388.106.

Purpose(s):

To allow Records Maintenance Team personnel a single point of reference for tracking requests for official Commission records; and to monitor official records requested and/or charged out of the Commission's Records Maintenance Center.

Routine uses of records maintained in the system, including categories of users and the purposes of such uses:

System is used to monitor status of records charged out to Commission employees and/or members of the public.

Disclosure to consumer reporting agencies:

None.

Policies and practices for storing, retrieving, accessing, retaining, and disposing of records in the system:

Storage:

Computer.

Retrievability:

By date, control number, docket number, record description, assignee, and/or name of requester.

Safeguards:

Access and system rights to the computer are assigned by the system administrator only to employees of the Records Maintenance Team (RMT). RMT employees access the system through their personal computers. All employees with assigned rights to access the system must enter a user identification and a valid password to access their computers and employees all use screen saver passwords. In addition, the computers are situated in an area to which the general public is not allowed access.

Retention and disposal:

Records are maintained pursuant to instructions authorized by the National Archives and Records Administration.

System manager(s) and address:

Leader, Records Maintenance Team, Information Services Group, Office of the Chief Information Officer, Federal Energy Regulatory Commission, 888 First Street, Room 2-A, Washington, DC 20426.

Notification procedure:

All inquiries and requests relating to this system of records should be addressed to the system manager of the system.

Record access procedures:

Same as notification procedures above.

Contesting record procedures:

Same as notification procedures above.

Record source categories:

Commission employees and members of the general public.

Exemptions claimed for the system:

None.

FERC-46

System name:

Commission Freedom of Information Act and Privacy Act Request Files.

Security classification:

Unclassified.

System location:

Federal Energy Regulatory Commission, Office of External Affairs, Division of Congressional, Intergovernmental and Public Affairs, 888 First Street, NE, Room 11H-22, Washington, DC 20426.

Categories of individuals covered by the system:

All individuals requesting records from FERC under the provisions of the Freedom of Information Act (FOIA) and the Privacy Act (PA) of 1974.

Categories of records in the system:

Requester's name and address, log number, description of request, billing information, tracking information, and all correspondence with the requester.

Authority for maintenance of the system:

5 U.S.C. 552, 552a; Executive Order 12009.

Purpose(s):

To record, track and maintain a complete record of events and ensure proper document control of time-sensitive responses to FOIA and PA inquiries.

Routine uses of records maintained in the system, including categories of users and the purposes of such uses:

To maintain a tracking system to expedite responses within the statutory time limits for the FOIA requests; to contact FOIA requesters; to prepare an annual report to the U.S. Department of Justice for submission to Congress each fiscal year under section 552(e) of the Freedom of Information Act; to prepare periodic activity reports for the Director, Office of External Affairs, to serve as a point of reference for all events and documents pertinent to the request in case of litigation.

Disclosure to consumer reporting agencies:

None.

Policies and practices for storing, retrieving, accessing, retaining, and disposing of records in the system:

Storage:

Computer and paper.

Retrievability:

By log number, individual name, affiliation and subject.

Safeguards:

Records are maintained in lockable metal file cabinets in a lockable room with a key distributed to those whose official duties require access. Computer data is secured by password.

Retention and disposal:

Retention period is two years after completion date if the information is released or six years after completion date if any or all information is withheld from the requester. Computer records are deleted and paper records are shredded and destroyed.

System manager(s) and address:

FOIA Liaison, Division of Congressional, Intergovernmental and Public Affairs, Office of External Affairs, Federal Energy Regulatory Commission, 888 First Street, NE, Room 11H-22, Washington, DC 20426.

Notification procedure:

Requests by individuals to determine if a system of records contains information about them should be directed to the System Manager.

Record access procedures:

Requests for access to records should be directed to the Director, Office of External Affairs, Federal Energy Regulatory Commission, 888 First Street, NE, Room 11H, Washington, DC 20426.

Contesting record procedures:

Same as record access procedures above.

Record source categories:

The subject individual; system manager; FERC staff, and the Director, Office of External Affairs.

Exemptions claimed for the system:

None.

FERC-47

System name:

Commission Office of Finance, Accounting and Operations' Recruitment Records.

Security classification:

Unclassified.

System location:

Federal Energy Regulatory Commission, Office of Finance, Accounting and Operations, Division of Operations Support, 888 First Street, NE, Room 72-15, Washington, DC 20426.

Categories of individuals covered by the system:

Prospective applicants submitting resumes for potential employment opportunities with the Commission's Office of Finance, Accounting and Operations.

Categories of records in the system:

Applicant name, home and office address, home and office phone number and social security number.

Authority for maintenance of the system:

5 CFR 300.101.

Purpose(s):

To keep current source of prospective applicants for Auditor vacancies.

Routine uses of records maintained in the system, including categories of users and the purposes of such uses:

Used to track applicants interested in employment with the Commission's Office of Finance, Accounting and Operations, Division of Operations Support.

Disclosure to consumer reporting agencies:

None.

Policies and practices for storing, retrieving, accessing, retaining, and disposing of records in the system:

Storage:

Paper and computer.

Retrievability:

Applicant name, school or event (job fair).

Safeguards:

Paper records are maintained locked file cabinets; computer data is password protected and accessible only by those employees whose official duties require access.

Retention and disposal:

Records are destroyed and/or deleted when two years old.

System manager(s) and address:

Supervisory Auditor, Division of Operations Support, Office of Finance, Accounting and Operations, Federal Energy Regulatory Commission, 888 First Street, NE, Room 72-15, Washington, DC 20426.

Notification procedure:

Requests from individuals to determine if a system of records contains information about them should be directed to the System Manager of the system.

Record access procedures:

Same as notification procedure above.

Contesting record procedures:

Same as notification procedure above.

Record source categories:

Prospective applicants and schools.

Exemptions claimed for the system:

None.

FERC-48

System name:

Department of Energy (DOE) Inspector General Investigative Records Relating to the Federal Energy Regulatory Commission.

Security classification:

Unclassified.

System location:

Federal Energy Regulatory Commission, Office of Finance, Accounting and Operations, Division of Internal Control and Evaluation, 888 First Street, NE, Room 4V-07, Washington, DC 20426.

Categories of individuals covered by the system:

Employees or contractors who are or have been subjects of the DOE Inspector General's investigations relating to Commission programs and operations.

Categories of records in the system:

Correspondence relevant to the investigation; internal staff correspondence, subpoenas issued during the investigation, affidavits, statements from witnesses, transcripts of testimony taken in the investigation and accompanying exhibits; documents and records or copies obtained during the investigation; working papers of the staff and other documents and records relating to the investigation; opening reports, progress reports and closing reports.

Authority for maintenance of the system:

Pub. L. 95-452, as amended; 5 U.S.C. app. at 1184.

Purpose(s):

To maintain documentation on investigations conducted by the DOE Inspector General.

Routine uses of records maintained in the system, including categories of users and the purposes of such uses:

Where there is an indication of a violation or a potential violation of law, whether civil, criminal or regulatory in nature, whether arising by general statute or particular program statute, or by regulation, rule or order issued pursuant thereto, the relevant records in the system of records may be referred to the appropriate agency, whether federal, foreign, state, or local, charged with enforcing or implementing the statute, or rule, regulation or order; to Federal, foreign, state or local authorities in order to obtain information or records relevant to an Inspector General investigation; to Federal, foreign, state or local governmental authorities maintaining civil, criminal or other relevant enforcement information or other pertinent information to obtain information relevant to an agency decision concerning the hiring or retention of an employee, the issuance of a security clearance, the letting of a contract, or the issuance of a license, grant or other benefit; to Federal, foreign, state, or local governmental authorities in response to their request in connection with the hiring or retention of an employee, discriminatory or other administrative action concerning an employee, the issuance of a security clearance, the reporting of an investigation of an employee, the letting of a contract, or the issuance of a license, grant or other benefit by the requesting agency, to the extent that the information is relevant and necessary to the requesting agency's decision in the matter; to non-governmental parties where those parties may have information the Inspector General seeks to obtain in connection with an investigation; to independent auditors or other private firms with which the Inspector General has contracted to carry out an independent audit, or to collate, aggregate or otherwise refine data collected in the system of records; to respond to subpoenas in any litigation or other proceeding; to the Department of Justice and/or the Office of General Counsel of the Commission when the defendant in litigation is: (A) Any component of the Commission or any employee of the Commission, or any employee of the Commission in his or her official capacity; (B) the United States where the Commission determines that the claim, if successful, is likely to directly affect the operations of the Commission; or (C) any Commission employee in his or her individual capacity where the Department of Justice and/or the Commission's Office of the General Counsel agree to represent such employee; to a Congressional office from the record of an individual in response to an inquiry from the Congressional office made at the request of that individual.

Disclosure to consumer reporting agencies:

None.

Policies and practices for storing, retrieving, accessing, retaining, and disposing of records in the system:

Storage:

Paper and computer.

Retrievability:

Name of the subject of the investigation.

Safeguards:

Paper records are maintained in a lockable file room with access limited to those persons whose official duties require such access; computer records are password protected.

Retention and disposal:

Records are maintained pursuant to instructions authorized by the National Archives and Records Administration; records created on electronic mail and word processing system are deleted within 180 days after the recordkeeping copy is produced.

System manager(s) and address:

Director, Division of Internal Control and Evaluation, Office of Finance, Accounting and Operations, Federal Energy Regulatory Commission, 888 First Street, NE, Room 4V-07, Washington, DC 20426.

Notification procedure:

Requests from individuals to determine if a system of records contains information about them should be directed to the System Manager of the system.

Record access procedures:

Same as notification procedure above.

Contesting record procedures:

Same as notification procedure above.

Record source categories:

Individuals including, where practicable, those to whom the information relates; witnesses, corporations and other entities; records of individuals and of the Commission; records of other entities; Federal, foreign, state or local bodies and law enforcement agencies; documents, correspondence relating to litigation, and transcripts of testimony; and miscellaneous other sources.

Exemptions claimed for the system:

None.

FERC-49

System name:

Commission Telecommunications Records.

Security classification:

Unclassified.

System location:

Federal Energy Regulatory Commission, Office of the Chief Information Officer, Operations Group, General Operations and Telecommunications Team, 888 First Street, NE, Room 42-35, Washington, DC 20426.

Categories of individuals covered by the system:

Individuals assigned telephone numbers by the Federal Energy Regulatory Commission, including current and former Commission employees and contractors, who make long distance and local calls placed from Commission telephones.

Categories of records in the system:

Records relating to the use of government telephones to place long distance and local calls; records indicating assignment of telephone numbers to individuals covered by the system; records relating to the assignment of government equipment and location of government telephones.

Authority for maintenance of the system:

42 U.S.C. 2201.

Purpose(s):

To oversee telecommunications services managed by the Federal Energy Regulatory Commission.

Routine uses of records maintained in the system, including categories of users and the purposes of such uses:

To disclose to a federal, state, or local agency if such agency is charged with the responsibility of investigating violations or charged with enforcing a statute, rule, regulation, or order issued; to identify assignment of government equipment to individuals and the telephone numbers assigned to those individuals; to maintain an inventory of government telecommunications equipment and in planning for long range requirements; to use as a source for budgetary purposes; and to conduct invoice certification.

Disclosure to consumer reporting agencies:

None.

Policies and practices for storing, retrieving, accessing, retaining, and disposing of records in the system:

Storage:

Paper and computer.

Retrievability:

By telephone number.

Safeguards:

Paper records are maintained in lockable filing cabinets with access limited to those employees whose official duties require access. Computer data is secured by system rights and identification passwords.

Retention and disposal:

Records are maintained pursuant to instructions authorized by the National Archives and Records Administration.

System manager(s) and address:

Manager, Operations Group, Office of the Chief Information Officer, Federal Energy Regulatory Commission, 888 First Street, NE, Room 42-35, Washington, DC 20426.

Notification procedure:

All inquiries and requests relating to this system of records should be addressed to the System Manager.

Record access procedures:

Same as notification procedures above.

Contesting record procedures:

Same as notification procedures above.

Record source categories:

Telephone companies or telecommunications service providers for the Commission, government telephone assignment records.

Exemptions claimed for the system:

None.

FERC-50

System name:

Commission Accounting System Records.

Security classification:

Unclassified.

System location:

Federal Energy Regulatory Commission, Office of Finance, Accounting and Operations, Division of Financial Services, 888 First Street, NE, Room 42-71, Washington, DC 20426.

Categories of individuals covered by the system:

FERC employees, contractors and vendors.

Categories of records in the system:

Name, social security number, address, bank account information for employees and vendors, accounts receivable and payable information, cost centers, source document information.

Authority for maintenance of the system:

31 U.S.C. 3511.

Purpose(s):

To manage and oversee the Commission's Accounting Program.

Routine uses of records maintained in the system, including categories of users and the purposes of such uses:

To process and track electronic payments to employees and vendors; to record and track travel and training accounting transactions.

Disclosure to consumer reporting agencies:

None.

Policies and practices for storing, retrieving, accessing, retaining, and disposing of records in the system:

Storage:

Paper and computer.

Retrievability:

Name, social security number, address and source document identification.

Safeguards:

Paper records are maintained in lockable file cabinets with access limited to those employees whose official duties require access. Computer data is secured by system rights and identification passwords.

Retention and disposal:

Records are maintained pursuant to instructions authorized by the National Archives and Records Administration.

System manager(s) and address:

Director, Division of Financial Services, Office of Finance, Accounting and Operations, Federal Energy Regulatory Commission, 888 First Street, NE, Room 42-71, Washington, DC 20426.

Notification procedure:

Requests from individuals to determine if a system of records contains information about them should be directed to the System Manager.

Record access procedures:

Same as notification procedure above.

Contesting record procedures:

Same as notification procedure above.

Record source categories:

FERC employees, vendors, Commission travel and training records, and the Departmental Integrated Standardized Core Accounting System (DISCAS).

Exemptions claimed for the system:

None.

FERC-51

System name:

Commission Congressional Correspondence, State Files and Constituent Records.

Security classification:

Unclassified.

System location:

Federal Energy Regulatory Commission, Office of External Affairs, Division of Congressional, Intergovernmental and Public Affairs, 888 First Street, NE, Room 11H-15, Washington, DC 20426.

Categories of individuals covered by the system:

Members of the United States Congress or Congressional constituent who have requested information from the Commission.

Categories of records in the system:

Requester's name and address, log number, description of request, tracking information, and incoming and outgoing correspondence.

Authority for maintenance of the system:

42 U.S.C. 7172.

Purpose(s):

To maintain records of correspondence by the Commission with Congress.

Routine uses of records maintained in the system, including categories of users and the purposes of such uses:

To maintain a tracking system to expedite responses; to maintain documentation of correspondence relating to Commission matters.

Disclosure to consumer reporting agencies:

None.

Policies and practices for storing, retrieving, accessing, retaining, and disposing of records in the system

Storage:

Paper and computer.

Retrievability:

By name of Senators and representatives and internal Commission tracking log number.

Safeguards:

Paper records are maintained in lockable metal file cabinets in a lockable room with a key distributed to those whose official duties require access. Computer records are password protected.

Retention and disposal:

Records are maintained pursuant to instructions authorized by the National Archives and Records Administration.

System manager(s) and address:

Division of Congressional, Intergovernmental and Public Affairs, Office of External Affairs, Federal Energy Regulatory Commission, 888 First Street, NE, Room 11H-15, Washington, DC 20426 or the appropriate Administrative Office in which the staff member replying to the correspondence is employed.

Notification procedure:

Requests by individuals to determine if a system of records contains information about them should be directed to the System Manager.

Record access procedures:

Same as notification procedures above.

Contesting record procedures:

Same as notification procedures above.

Record source categories;

Corresponding Senators, representatives and Congressional constituents, and Commission staff who prepare replies.

Exemptions claimed for the system:

None.

FERC-52

System name:

Commission Supervisor-Maintained Personnel Records.

Security classification:

Unclassified.

System location:

Federal Energy Regulatory Commission, 888 First Street, NE, Washington, DC 20426. The records are maintained at all FERC Offices, by employees' respective supervisors.

Categories of individuals covered by the system:

Current Commission employees; in a few cases, records include current contractors of the Commission and former employees of the Commission.

Categories of records in the system:

The contents vary from Office to Office, but include all or some of the following: Copies and summaries of employment history, job description, education, address, date of birth, social security number, awards and commendations received, participation in professional or community activities, training, earnings and leave data, certification or qualification examinations, injury reports, appraisals, security infraction notices, records of supervisor-employee discussions, reprimands, admonitions, adverse actions, contingency planning data, security clearance status, and Government property in employee's possession. Also contains emergency contact information such as home address and phone number, next of kin or individual to contact in case of emergency and their respective addresses and phone numbers.

Authority for maintenance of the system:

5 U.S.C. 301.

Purpose(s):

To maintain documentation on supervisor-employee relations.

Routine uses of records maintained in the system, including categories of users and the purposes of such uses:

To respond to a member of Congress concerning the status of the particular action or the employee's general employment history; to serve as a data source for OPM or GAO during the course of on-site inspections or audits; to serve as a data source to FERC officials in determining the proper current personnel action to take concerning the employee; to adjudicate appeals, complaints, or grievances; to contact individuals in case of an emergency.

Disclosure to consumer reporting agencies:

None.

Policies and practices for storing, retrieving, accessing, retaining, and disposing of records in the system:

Storage:

Paper and computer.

Retrievability:

By name.

Safeguards:

Records are maintained under the control of supervisory officials in lockable file cabinets or drawers. Computer records are password protected.

Retention and disposal:

Records are maintained pursuant to guidelines authorized by the National Archives and Records Administration.

System manager(s) and address:

The supervisor of the individual. Federal Energy Regulatory Commission, 888 First Street, NE, Washington, DC 20426.

Notification procedure:

Requests from individuals to determine if a system of records contains information about them should be directed to the System Manager or to the Privacy Act Officer, Federal Energy Regulatory Commission, 888 First Street, NE, Room 91-21, Washington, DC 20426.

Record access procedures:

Same as notification procedures above.

Contesting record procedures:

Same as notification procedures above.

Record source categories:

The great majority of the data comes directly from the individuals or cognizant supervisory officials; other data comes from copies of personnel action documents.

Exemptions claimed for the system:

None.

FERC-53

System name:

Information Technology System Log Records.

Security classification:

Unclassified.

System location:

Federal Energy Regulatory Commission, Office of the Chief Information Officer, Computer Data Center, 888 First Street, NE., Room 1F, Washington, DC 20426.

Categories of individuals covered by the system:

All individuals accessing the Commission's applications.

Categories of records in the system:

Records relating to the use of the Commission's applications, including Information Technology system log files; Internet/Intranet, local area network, and software, system, and e-mail usage.

Authority for maintenance of the system:

5 U.S.C. 302.

Purpose(s):

To oversee, maintain and troubleshoot problems with information technology resources managed by the Federal Energy Regulatory Commission.

Routine uses of records maintained in the system, including categories of users and the purposes of such uses:

To determine hardware or software problems; to maintain inventory; to monitor overall activity and disk space usage; to serve as a data source if the Commission, in carrying out its functions, discovers a violation of law, whether civil, criminal, or regulatory in nature, and whether arising by general statute or particular program statute, or by regulation, rules, or order issued pursuant thereto, the relevant records in the system of records may be referred, as a routine use, to the appropriate agency, whether Federal, State, local, or foreign, charged with the responsibility of investigating or prosecuting such violation or charged with enforcing or implementing the statute, or rule, regulation, or order issued pursuant thereto.

Disclosure to consumer reporting agencies:

None.

Policies and practices for storing, retrieving, accessing, retaining, and disposing of records in the system:

Storage:

Disk and tape.

Retrievability:

User Identification Code.

Safeguards:

Access and system rights are assigned by the System Administrator to only those employees whose official duties require access. All employees with assigned rights must enter a user identification and a valid password to access the data.

Retention and disposal:

Records are maintained pursuant to instructions authorized by the National Archives and Records Administration.

System manager(s) and address:

Operations Manager, Office of the Chief Information Officer, Federal Energy Regulatory Commission, 888 First Street, NE., Room 42-35, Washington, DC 20426.

Notification procedure:

All inquiries and requests relating to this system of records should be addressed to the system manager of the system.

Record access procedures:

Same as notification procedures above.

Contesting record procedures:

Same as notification procedures above.

Record source categories:

Information is automatically captured when accessing an application.

Exemptions claimed for the system:

None.

FERC-54

System name:

Commission Employee Assistance Program Files

Security classification:

Unclassified

System location:

Federal Energy Regulatory Commission, Office of Strategy and Organizational Management, Division of Human Resources, Labor and Employee Relations Branch, 888 First Street, NE., Room 3-J, Washington, DC 20426.

Categories of individuals covered by the system:

Commission employees who have been counseled by or referred to the Employee Assistance Program for problems relating to alcoholism, drug abuse, job stress, chronic illness, family or relationship concerns, and emotional and other similar issues.

Categories of records in the system:

Information on employees who have participated in the Employee Assistance Program and the results of any counseling or referrals which may have taken place, and information on the nature of each individual's problem, subsequent treatment, and progress.

Authority for maintenance of the system:

42 U.S.C. 290dd-1 and 290ee.

Purpose(s):

To provide assistance to employees in need of counsel.

Routine uses of records maintained in the system, including categories of users and the purposes of such uses:

For statistical reporting purposes; any disclosure of information pertaining to an individual will be made in compliance with the Confidentiality of Alcohol and Drug Abuse Patient Records regulation, 42 CFR part 2, as authorized by 21 U.S.C. 1175 and 42 U.S.C. 4582, as amended.

Disclosure to consumer reporting agencies:

None.

Policies and practices for storing, retrieving, accessing, retaining, and disposing of records in the system:

Storage:

Paper.

Retrievability:

By employee name.

Safeguards:

Files are maintained in lockable cabinets and under the immediate control of the Employee Assistance Program Counselor.

Retention and disposal:

Records are maintained pursuant to instructions authorized by the National Archives and Records Administration.

System manager(s) and address:

Chief, Labor and Employee Relations Branch, Division of Human Resources, Office of Strategy and Organizational Management, Federal Energy Regulatory Commission, 888 First Street, NE., Room 4A-05, Washington, DC 20426.

Notification procedure:

Requests from individuals to determine if a system of records contains information about them should be directed to the System Manager.

Record access procedures:

Same as notification procedures above.

Contesting record procedures:

Same as notification procedures above.

Record source categories:

Information is compiled by the Employee Assistance Program Counselor during the course of counseling an employee.

Exemptions claimed for the system:

None.

[FR Doc. 00-9959 Filed 4-31-00; 8:45 am]

BILLING CODE 6717-01-P